FEDERAL ELECTION COMMISSION

Sunshine Act Notice

AGENCY: Federal Election Commission.

Federal Register Citation of Previous Announcement—77 FR 59924 (October 1, 2012)

Date and Time: Thursday, October 4, 2012 At 10 a.m.

Place: 999 E Street NW., Washington, DC (Ninth Floor).

Status: This Meeting Will Be Open to the Public.

CHANGES IN THE MEETING—The following items have been added to the agenda:

Draft Advisory Opinion 2012-32: Tea Party Leadership Fund, Mr. John Raese and Mr. Sean Bielat.

Consideration of the U.S. District Court for the District of Columbia (September 20, 2012) Order in Van Hollen v. FEC.

Individuals who plan to attend and require special assistance, such as sign language interpretation or other reasonable accommodations, should contact Shawn Woodhead Werth, Secretary, at (202) 694-1040, at least 72 hours prior to the meeting date.

Person To Contact For Information: Judith Ingram, Press Officer, Telephone: (202) 694-1220.

Shawn Woodhead Werth,
Secretary of the Commission.

[FR Doc. 2012-24531 Filed 10-1-12; 4:15 pm]

BILLING CODE 6715-01-P